FEDERAL MARITIME COMMISSION

Performance Review Board Members

AGENCY: Federal Maritime Commission.

ACTION: Notice.

SUMMARY: The Federal Maritime Commission is hereby giving notice of the names of the members appointed to the Commission's Performance Review Board. The function of the Board is to make recommendations to the appropriate appointing authority relating to the performance of senior executives in the agency.

FOR FURTHER INFORMATION CONTACT: Courtney Killion, Director, Office of Human Resources, Chief Human Capital Officer, Federal Maritime Commission, 800 North Capitol Street NW, Washington, DC 20573; Phone: (202) 523-5773.

SUPPLEMENTARY INFORMATION: Sections 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

The members of the Performance Review Board are:

1. Carl W. Bentzel, Commissioner

2. Mary T. Hoang, Chief of Staff

3. Lucille L. Marvin, Managing Director

4. Phillip C. Hughey, General Counsel

5. John G. Crews, Director, Bureau of Enforcement, Investigations & Compliance

6. Cindy R. Hennigan, Deputy Managing Director

7. Mohammad A. Usman, Chief Information Officer

David Eng,
Secretary.

[FR Doc. 2024-14876 Filed 7-5-24; 8:45 am]

BILLING CODE 6730-02-P